DEPARTMENT OF TRANSPORTATION

Federal Aviation Administration

[Docket No. FAA-2021-1138]

Agency Information Collection Activities: Requests for Comments; Clearance of a New Approval of Information Collection: Computerized Neurocognitive Tests for Aeromedical Safety

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on December 16, 2021. The collection involves in-person sessions between researchers and certified pilots. Computerized neurocognitive tests are a non-invasive way to measure cognitive function (e.g., attention, working memory, information processing speed, reaction time) and are used as part of the FAA's overall aeromedical physical exam process to determine if a pilot is safe to operate an aircraft within the National Airspace System (NAS). Neurocognitive tests are required only for pilots with certain medical conditions associated with aeromedically significant cognitive impairments (i.e., not all pilots are tested). The FAA needs to ensure that the tests and data used to maintain the safety of the NAS are based on the most current scientific knowledge. The purpose of this IC effort is to obtain updated pilot normative data for the neurocognitive tests under consideration. The information collection (IC) effort will be used to potentially revise the FAA's Aviation Medical Examiners (AME) Guide, update clinical practices, and assure aeromedical safety. Information will be collected from representative pilots across the United States, who will complete two different 1-hour neurocognitive tests. Total IC effort/time per person will be approximately four hours (i.e., to include check-in processing, informed consent, neurocognitive test-taking, rest breaks, and participant debrief).

DATES: Written comments should be submitted by December 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Susan M. Jay, Ph.D. by email at: susan.m.jay@faa.gov; phone: (405) 954-5500.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: Computerized Neurocognitive Tests for Aeromedical Safety.

Form Numbers: n/a.

Type of Review: New information collection.

Background: The Federal Register Notice with a 60-day comment period soliciting comments on the following collection of information was published on December 16, 2021 (86 FR 239). The FAA received no comments. The FAA's mission and vision is to provide the safest, most efficient aerospace system in the world as new users and technologies integrate into the system. Computerized neurocognitive tests are a non-invasive way to measure cognitive function (e.g., attention, working memory, information processing speed, reaction time). Neurocognitive tests are used as part of the FAA's overall aeromedical physical exam process to determine if a pilot is safe to operate an aircraft within the NAS. Neurocognitive tests are required only for pilots and with certain medical conditions associated with aeromedically significant cognitive impairments (i.e., not all pilots). The FAA needs to ensure that the tests and data used to maintain the safety of the NAS based on the most current scientific knowledge. The purpose of this IC effort is to obtain updated pilot normative data for the current test and alternative neurocognitive tests under consideration. The IC effort will be used to potentially revise the FAA's AME Guide, update clinical practices, and assure aeromedical safety.

Respondents: 1,000 respondents.

Frequency: One-time collection.

Estimated Average Burden per Response: 4 hours burden per respondent-response.

Estimated Total Annual Burden: 4,000 hours total burden.

Issued in Oklahoma City, Oklahoma, on November 7, 2023.
Susan M. Jay,
Research Physiologist, Aviation Safety, Civil Aerospace Medical Institute (CAMI), Federal Aviation Administration.

[FR Doc. 2023-24938 Filed 11-9-23; 8:45 am]

BILLING CODE 4910-13-P